DEPARTMENT OF ENERGY

Bonneville Power Administration

Central Ferry-Lower Monumental Transmission Line Project

AGENCY: Bonneville Power Administration (BPA), Department of Energy (DOE).

ACTION: Notice of intent to prepare an Environmental Impact Statement (EIS) and notice of floodplain and wetlands involvement.

SUMMARY: BPA intends to prepare an EIS in accordance with the National Environmental Policy Act (NEPA) on the construction, operation, and maintenance of a proposed 500-kilovolt (kV) transmission line in Garfield, Columbia, and Walla Walla counties, Washington. The proposed line would extend west from a new BPA 500-kV Central Ferry Substation (separately proposed to be built in northwestern Garfield County, Washington to interconnect proposed wind projects in that area), to BPA's existing 500-kV Lower Monumental Substation in Walla Walla County, Washington. BPA is considering two routing alternatives for the proposed Central Ferry-Lower Monumental transmission line; portions of both routes would parallel existing BPA lines in the area. One routing alternative for the transmission line is about 38 miles long, and the other is about 40 miles long. The proposed transmission line is needed to increase transmission capacity to respond to requests for transmission service in this area.

With this Notice of Intent, BPA is initiating the public scoping process for the EIS. BPA is requesting comments about potential environmental impacts that it should consider as it prepares the EIS for the proposed project, as well as comments on the proposed routes for the transmission line and suggestions about other route options that may meet the technical requirements of the transmission system.

In accordance with DOE regulations for compliance with floodplain and wetlands environmental review requirements, BPA will prepare a floodplain and wetlands assessment to avoid or minimize potential harm to or within any affected floodplains and wetlands. The assessment will be included in the EIS.

DATES: Written scoping comments are due to the address below no later than August 3, 2009. Comments may also be made at the EIS scoping meeting to be held on July 13, 2009, from 4 p.m. to 7 p.m. at the addresses below.

ADDRESSES: Send letters with comments and suggestions on the proposed scope of the Draft EIS, and requests to be placed on the project mailing list, to Bonneville Power Administration, Public Affairs Office—DKE-7, P.O. Box 14428, Portland, OR 97293-4428, or by fax to (503) 230-3285. You also may call BPA's toll free comment line at (800) 622-4519 and leave a message (please include the name of this project); or submit comments online at http://www.bpa.gov/comment. BPA will post all comment letters in their entirety on BPA's Web site at http://www.bpa.gov/comment.

On Monday, July 13, 2009, an open-house style scoping meeting will be held from 4 p.m. to 7 p.m. at Starbuck School Gymnasium in Starbuck, Washington. At this informal meeting, we will provide maps and other information about the project and have members of the project team available to answer questions and accept oral and written comments. You may stop by anytime during the open house.

FOR FURTHER INFORMATION CONTACT: Tish Eaton, Environmental Coordinator, Bonneville Power Administration—KEC-4, P.O. Box 3621, Portland, Oregon 97208-3621; toll-free telephone 1-800-282-3713; direct telephone 503-230-3469; or e-mail tkeaton@bpa.gov. You may also contact Theresa Berry, Project Manager, Bonneville Power Administration—TEP-3, P.O. Box 3621, Portland, Oregon 97208-3621; toll-free telephone 1-800-282-3713; direct telephone 360-619-6313; or e-mail tmberry@bpa.gov. Additional information can be found at BPA's Web site: http://www.efw.bpa.gov.

SUPPLEMENTARY INFORMATION: In 2008, BPA conducted a Network Open Season (NOS) process to help manage its list of requests for long-term transmission service. During the NOS process, utilities and power generators (including wind generators and power marketers) requested the use of BPA's transmission system to transmit their power. To determine if BPA could offer the service requested, BPA studied the transmission system and identified where existing capacity was available and where the system needed upgrades. The studies found that there was not enough available transmission capacity to accommodate all requests for long-term service from the Lower Snake area in southeast Washington to load centers west of the Cascades and to major transmission lines serving the regions growing energy needs. Wind generation facilities built and proposed in this area will increase the amount of power being produced in southeast Washington. Further studies revealed that building a new 500-kV line from a point along BPA's existing Little Goose-Lower Granite lines to BPA's Lower Monumental Substation would allow BPA to accommodate the requests for transmission service from proposed wind generation facilities in this area.

BPA must respond to these requests for transmission service under its Open Access Transmission Tariff. This tariff, which is generally consistent with the Federal Energy Regulatory Commission's pro forma open access tariff, has procedures that provide access to BPA's transmission system for all eligible customers, consistent with all BPA requirements (including the availability or development of sufficient transmission capacity) and subject to an environmental review under NEPA. The proposed Central Ferry-Lower Monumental Transmission Line Project would respond to these requests for transmission service. BPA, therefore, will prepare an EIS under NEPA to assist the agency as it decides whether to build the proposed project, and if a decision is made to build a line, which alternative transmission line route should be constructed.

BPA will be the lead agency for preparation of the EIS. In furtherance of existing cooperative agreements between BPA and the State of Washington, the Washington Energy Facility Site Evaluation Council (Washington EFSEC) also will participate in preparation of the EIS. Among other things, this state agency will assist BPA in evaluating alternative transmission line routes and identifying state interests that should be addressed in the EIS. In addition, cooperating agencies for the EIS may be identified as the proposed project proceeds through the NEPA process.

Alternatives Proposed for Consideration. For the proposed 500-kV transmission line, BPA will consider and evaluate two routing alternatives in the EIS. One routing alternative for the transmission line is about 38 miles long, and the other is about 40 miles long. Both alternatives would require new transmission line right-of-way to allow adequate system reliability spacing of the proposed line from existing 500-kV transmission lines in the area. BPA proposes to construct the new line using lattice steel towers for both routing alternatives.

Both routing alternatives would originate at a new 500-kV substation, referred to as the Central Ferry Substation, that BPA is separately proposing to build in northwestern Garfield County, Washington, at a point along BPA's existing Little Goose-Lower Granite lines approximately two miles southeast of the Snake River near the Port of Central Ferry, Washington. The Central Ferry Substation is being independently proposed to respond to requests received by BPA for interconnection of proposed wind projects in the area to BPA's existing transmission system.

Both routing alternatives also would terminate at the existing BPA 500-kV Lower Monumental Substation, which is located at Lower Monumental Dam on the Snake River in Walla Walla County, Washington. Both routing alternatives would avoid crossing existing BPA 500-kV lines and the Snake River by remaining to the south of these features. The following describes the general locations of the two routing alternatives:

• North Alternative: This routing alternative is approximately 40 miles in length. From the new Central Ferry Substation, this route would proceed southwesterly and westerly for about 12 miles. This portion of the route would run parallel to and about 1200 feet to one half-mile south of BPA's existing Little Goose—Lower Granite lines. At this point, the route would angle away from the existing Little Goose—Lower Granite lines and proceed in a southwesterly direction for about 6 miles before crossing the Tucannon River directly north of the Town of Starbuck. From the Tucannon River crossing, the route would continue southwest and west for about 3 miles before angling northwest for about 5 miles to a point approximately 1500 feet south of BPA's two existing Lower Monumental—Little Goose lines. From this point, the route would proceed west for about 14 miles to BPA's existing Lower Monumental Substation, with much of this portion of the route running parallel to and approximately 1500 feet south of these existing lines.

• South Alternative: This routing alternative is approximately 38 miles in length. From the new Central Ferry Substation, this route would proceed southwesterly for about 3 miles, with this portion of the route running parallel to and approximately 1200 feet south of BPA's existing Little Goose—Lower Granite lines. At this point, instead of following these existing lines as they angle to the west, the route would continue southwesterly and then westerly for about 15 miles before crossing the Tucannon River directly north of the Town of Starbuck. From the Tucannon River crossing, the route would continue westerly for about 20 miles to BPA's existing Lower Monumental Substation.

BPA is also considering the No Action Alternative, that is, not building the proposed transmission line. Other alternatives may be identified through the scoping process.

Public Participation and Identification of Environmental Issues. The potential environmental issues identified for most transmission line projects include land use, socioeconomics, cultural resources, visual resources, electric and magnetic field issues, sensitive plants and animals, soil erosion, wetlands, floodplains, and fish and water resources. BPA has established a 45-day scoping period during which tribes, affected landowners, concerned citizens, special interest groups, local and federal governments, and any other interested parties are invited to comment on the scope of the proposed EIS, including potential routing alternatives to be considered and environmental impacts to be evaluated. Scoping will help BPA ensure that a full range of issues related to this proposal is addressed in the EIS, and also will identify significant or potentially significant impacts that may result from the proposed project. When completed, the Draft EIS will be circulated for review and comment, and BPA will hold public meetings to hear comments. The Draft EIS is expected to be published in summer 2010. BPA will consider and respond to comments received on the Draft EIS in the Final EIS. The Final EIS is expected to be published in spring-summer 2011. BPA's decision will be documented in a Record of Decision that will follow the Final EIS.

Issued in Portland, Oregon, on June 9, 2009.
Stephen J. Wright,
Administrator and Chief Executive Officer.

[FR Doc. E9-14448 Filed 6-18-09; 8:45 am]

BILLING CODE 6450-01-P